ENVIRONMENTAL PROTECTION AGENCY

40 CFR Part 52

[EPA-R05-OAR-2021-0294; FRL-9831-02-R5]

Air Plan Approval; Illinois; VOC RACT Requirements for Aerospace Manufacturing and Rework Operations

AGENCY: Environmental Protection Agency (EPA).

ACTION: Final rule.

SUMMARY: The Environmental Protection Agency (EPA) is approving State Implementation Plan (SIP) rule revisions submitted by the Illinois Environmental Protection Agency (IEPA or Illinois) on April 13, 2021, and supplemented by a Clean Air Act (CAA) section 110(l) demonstration submitted on October 6, 2022. Illinois requests that EPA approve rule revisions related to control of volatile organic compound (VOC) emissions from aerospace manufacturing and rework facilities into Illinois' SIP. These rule revisions are consistent with the Control Techniques Guidelines (CTG) for Aerospace Manufacturing and Rework Operations published by EPA in 1997, generally used to meet Reasonably Available Control Technology (RACT) requirements, and serve as SIP strengthening measures for aerospace facilities located in the Illinois portion of the St. Louis nonattainment area (Metro-East area). The Metro-East area consists of Madison, Monroe, and St. Clair counties in Illinois. EPA proposed to approve this action on January 10, 2023, and received no adverse comments.

DATES: This final rule is effective on May 11, 2023.

ADDRESSES: EPA has established a docket for this action under Docket ID No. EPA-R05-OAR-2021-0294. All documents in the docket are listed on the www.regulations.gov website. Although listed in the index, some information is not publicly available, i.e., Confidential Business Information (CBI) or other information whose disclosure is restricted by statute. Certain other material, such as copyrighted material, is not placed on the internet and will be publicly available only in hard copy form. Publicly available docket materials are available either through www.regulations.gov or at the Environmental Protection Agency, Region 5, Air and Radiation Division, 77 West Jackson Boulevard, Chicago, Illinois 60604. This facility is open from 8:30 a.m. to 4:30 p.m., Monday through Friday, excluding Federal holidays and facility closures due to COVID-19. We recommend that you telephone Kathleen Mullen, Environmental Engineer, Attainment Planning and Maintenance Section, at (312) 353-3490 before visiting the Region 5 office.

FOR FURTHER INFORMATION CONTACT: Kathleen Mullen, Environmental Engineer, Attainment Planning and Maintenance Section, Air Programs Branch (AR-18J), Environmental Protection Agency, Region 5, 77 West Jackson Boulevard, Chicago, Illinois 60604, (312) 353-3490, mullen.kathleen@epa.gov.

SUPPLEMENTARY INFORMATION: Throughout this document whenever “we,” “us,” or “our” is used, we mean EPA.

I. Background Information

On January 10, 2023, EPA proposed to approve rule revisions to title 35 of the Illinois Administrative Code (Ill. Adm. Code) part 211 (Definitions and General Provisions) and part 219 (Organic Material Emission Standards and Limitations for the Metro-East Area). These rule revisions implement the control of VOC emissions from aerospace manufacturing and rework operations in the Metro-East Area. Specifically, we are approving Illinois rules 35 Ill. Admin. Code Part 211 sections 211.125, 211.234, 211.245, 211.271, 211.272, 211.273, 211.275, 211.277, 211.278, 211.280, 211.284, 211.289, 211.300, 211.303, 211.491, 211.500, 211.520, 211.712, 211.737, 211.975, 211.985, 211.1095, 211.1326, 211.1327, 211.1329, 211.1432, 211.1555, 211.1567, 211.1620, 211.1625, 211.1735, 211.1820, 211.1895, 211.1915, 211.2035, 211.2180, 211.2340, 211.2400, 211.2412, 211.2480, 211.2485, 211.2612, 211.2613, 211.2795, 211.2980, 211.3160, 211.3180, 211.3230, 211.3360, 211.3755, 211.3850, 211.3870, 211.3920, 211.4066, 211.4215, 211.4535, 211.5072, 211.5336, 211.5338, 211.5339, 211.5585, 211.5675, 211.5680, 211.5805, 211.5855, 211.5883, 211.5887, 211.5895, 211.5900, 211.5905, 211.5907, 211.6013, 211.6055, 211.6064, 211.6133, 211.6137, 211.6426, 211.6428, 211.6575, 211.6583, 211.6670, 211.6685, 211.6720, 211.7260 and 211.7275, and 35 Ill. Admin. Code Part 219 sections 219.105, 219.106, 219.110, 219.112, 219.187, 219.204, 219.205, 219.207, 219.208, 219.211 and 219.219, effective 3/4/2021. An explanation of the CAA requirements, a detailed analysis of the revisions, and EPA's reasons for proposing approval were provided in the notice of proposed rulemaking (88 FR 1341) and will not be restated here. The public comment period for the proposed rule ended on February 9, 2023. EPA received no adverse comments on the proposal.

II. Final Action

EPA is approving into the Illinois SIP revisions to rules relating to the control of VOC emissions from aerospace manufacturing and rework operations (35 Ill. Admin. Code part 211 and 35 Ill. Admin. Code part 219) submitted on April 13, 2021, which Illinois supplemented with a 110(l) demonstration on October 6, 2022. These rule revisions apply to aerospace facilities located in the Metro-East Area and serve as SIP strengthening measures.

III. Incorporation by Reference

In this rule, EPA is finalizing regulatory text that includes incorporation by reference. In accordance with requirements of 1 CFR 51.5, EPA is finalizing the incorporation by reference of the Illinois Regulations discussed in section I. of this preamble and set forth in the amendments to 40 CFR part 52 below. EPA has made, and will continue to make, these documents generally available through www.regulations.gov, and at the EPA Region 5 Office (please contact the person identified in the FOR FURTHER INFORMATION CONTACT section of this preamble for more information). Therefore, these materials have been approved by EPA for inclusion in the SIP, have been incorporated by reference by EPA into that plan, are fully federally enforceable under sections 110 and 113 of the CAA as of the effective date of the final rulemaking of EPA's approval, and will be incorporated by reference in the next update to the SIP compilation.¹

¹ 62 FR 27968 (May 22, 1997).

IV. Statutory and Executive Order Reviews

Under the CAA, the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a significant regulatory action subject to review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001); and

• Is not subject to requirements of Section 12(d) of the National Technology Transfer and Advancement Act of 1995 (15 U.S.C. 272 note) because application of those requirements would be inconsistent with the CAA.

In addition, the SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

Executive Order 12898 (Federal Actions To Address Environmental Justice in Minority Populations and Low-Income Populations, 59 FR 7629, Feb. 16, 1994) directs Federal agencies to identify and address “disproportionately high and adverse human health or environmental effects” of their actions on minority populations and low-income populations to the greatest extent practicable and permitted by law. EPA defines environmental justice (EJ) as “the fair treatment and meaningful involvement of all people regardless of race, color, national origin, or income with respect to the development, implementation, and enforcement of environmental laws, regulations, and policies.” EPA further defines the term fair treatment to mean that “no group of people should bear a disproportionate burden of environmental harms and risks, including those resulting from the negative environmental consequences of industrial, governmental, and commercial operations or programs and policies.”

IEPA did not evaluate environmental justice considerations as part of its SIP submittal; the CAA and applicable implementing regulations neither prohibit nor require such an evaluation. EPA did not perform an EJ analysis and did not consider EJ in this action. Due to the nature of the action being taken here, this action is expected to have a neutral to positive impact on the air quality of the affected area. Consideration of EJ is not required as part of this action, and there is no information in the record inconsistent with the stated goal of E.O. 12898 of achieving environmental justice for people of color, low-income populations, and Indigenous peoples.

This action is subject to the Congressional Review Act, and EPA will submit a rule report to each House of the Congress and to the Comptroller General of the United States. This action is not a “major rule” as defined by 5 U.S.C. 804(2).

Under section 307(b)(1) of the CAA, petitions for judicial review of this action must be filed in the United States Court of Appeals for the appropriate circuit by June 12, 2023. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Incorporation by reference, Intergovernmental relations, Ozone, Volatile organic compounds.

Dated: April 3, 2023.
Debra Shore,
Regional Administrator, Region 5.

For the reasons stated in the preamble, 40 CFR part 52 is amended as follows:

PART 52—APPROVAL AND PROMULGATION OF IMPLEMENTATION PLANS

1. The authority citation for part 52 continues to read as follows:

Authority: 42 U.S.C. 7401 et seq.

2. In § 52.720, the table in paragraph (c) is amended by:

a. Adding entries for “211.125”, “211.234”, “211.245”, “211.271”, “211.272”, “211.273”, “211.275”, “211.277”, “211.278”, “211.280”, “211.284”, “211.289”, “211.300”, “211.303”, “211.491”, “211.500”, “211.520”, “211.712”, “211.737”, “211.975”, “211.985”, “211.1095”, “211.1326”, “211.1327”, “211.1329”, “211.1432”, “211.1555”, “211.1567”, “211.1620”, “211.1625”, “211.1735”, “211.1820”, “211.1895”, “211.1915”, “211.2035”, “211.2180”, “211.2340”, “211.2400”, “211.2412”, “211.2480”, “211.2485”, “211.2612”, “211.2613”, and “211.2795” in numerical order;

b. Revising the entry for “211.2980”;

c. Adding entries for “211.3160” and “211.3180” in numerical order;

d. Revising the entry for “211.3230”;

e. Adding entries for “211.3360” and “211.3755” in numerical order;

f. Revising the entries for “211.3850” and “211.3870”;

g. Adding entries for “211.3920”, “211.4066”, “211.4215”, “211.4535”, “211.5072”, “211.5336”, “211.5338”, and “211.5339” in numerical order;

h. Revising the entry for “211.5585”;

i. Adding entries for “211.5675”, “211.5680”, “211.5805”, “211.5855”, “211.5883”, “211.5887”, “211.5895”, “211.5900”, “211.5905”, “211.5907”, “211.6013”, “211.6055”, “211.6064”, “211.6133”, “211.6137”, “211.6426”, “211.6428”, “211.6575”, and “211.6583” in numerical order;

j. Revising the entry for “211.6670”;

k. Adding an entry for “211.6685” in numerical order;

l. Revising the entry for “211.6720”;

m. Adding entries for “211.7260” and “211.7275” in numerical order; and

n. Revising the entries for “219.105”, “219.106”, “219.110”, “219.112”, “219.187”, “219.204”, “219.205”, “219.207”, “219.208”, “219.211”, and “219.219”.

The revisions and additions read as follows:

§ 52.720 Identification of plan.

* * * * *

(c) * * *

EPA-Approved Illinois Regulations and Statutes
Illinois citation | Title/subject | State effective date | EPA approval date | Comments
* * * * * * *
211.125 | Ablative Coating | 3/4/2021 | 4/11/2023, [INSERT Federal Register CITATION] |
* * * * * * *
211.234 | Adhesive Bonding Primer | 3/4/2021 | 4/11/2023, [INSERT Federal Register CITATION] |
* * * * * * *
211.245 | Adhesion Promoter for Aerospace Applications | 3/4/2021 | 4/11/2023, [INSERT Federal Register CITATION] |
* * * * * * *
211.271 | Aerosol Coating | 3/4/2021 | 4/11/2023, [INSERT Federal Register CITATION] |
211.272 | Aerospace Coating | 3/4/2021 | 4/11/2023, [INSERT Federal Register CITATION] |
211.273 | Aerospace Coating Operation | 3/4/2021 | 4/11/2023, [INSERT Federal Register CITATION] |
211.275 | Aerospace Flexible Primer | 3/4/2021 | 4/11/2023, [INSERT Federal Register CITATION] |
211.277 | Aerospace Facility | 3/4/2021 | 4/11/2023, [INSERT Federal Register CITATION] |
211.278 | Aerospace Pretreatment Coating | 3/4/2021 | 4/11/2023, [INSERT Federal Register CITATION] |
211.280 | Aerospace Primer | 3/4/2021 | 4/11/2023, [INSERT Federal Register CITATION] |
211.284 | Aerospace Specialty Coating | 3/4/2021 | 4/11/2023, [INSERT Federal Register CITATION] |
211.289 | Aerospace Vehicle or Component | 3/4/2021 | 4/11/2023, [INSERT Federal Register CITATION] |
* * * * * * *
211.300 | Aircraft Fluid Systems | 3/4/2021 | 4/11/2023, [INSERT Federal Register CITATION] |
211.303 | Aircraft Transparancies | 3/4/2021 | 4/11/2023, [INSERT Federal Register CITATION] |
* * * * * * *
211.491 | Antichafe Coating | 3/4/2021 | 4/11/2023, [INSERT Federal Register CITATION] |
* * * * * * *
211.500 | Antique Aerospace Vehicle or Component | 3/4/2021 | 4/11/2023, [INSERT Federal Register CITATION] |
* * * * * * *
211.520 | Aqueous Cleaning Solvent | 3/4/2021 | 4/11/2023, [INSERT Federal Register CITATION] |
* * * * * * *
211.712 | Bearing Coating | 3/4/2021 | 4/11/2023, [INSERT Federal Register CITATION] |
* * * * * * *
211.737 | Bonding Maskant | 3/4/2021 | 4/11/2023, [INSERT Federal Register CITATION] |
* * * * * * *
211.975 | Chemical Agent-Resistant Coating | 3/4/2021 | 4/11/2023, [INSERT Federal Register CITATION] |
* * * * * * *
211.985 | Chemical Milling Maskant | 3/4/2021 | 4/11/2023, [INSERT Federal Register CITATION] |
* * * * * * *
211.1095 | Clear Coating for Aerospace Applications | 3/4/2021 | 4/11/2023, [INSERT Federal Register CITATION] |
* * * * * * *
211.1326 | Commercial Exterior Aerodynamic Structure Primer | 3/4/2021 | 4/11/2023, [INSERT Federal Register CITATION] |
211.1327 | Commercial Interior Adhesive | 3/4/2021 | 4/11/2023, [INSERT Federal Register CITATION] |
211.1329 | Compatible Substrate Primer | 3/4/2021 | 4/11/2023, [INSERT Federal Register CITATION] |
* * * * * * *
211.1432 | Confined Space | 3/4/2021 | 4/11/2023, [INSERT Federal Register CITATION] |
* * * * * * *
211.1555 | Corrosion Prevention System | 3/4/2021 | 4/11/2023, [INSERT Federal Register CITATION] |
* * * * * * *
211.1567 | Critical Use and Line Sealer Maskant | 3/4/2021 | 4/11/2023, [INSERT Federal Register CITATION] |
* * * * * * *
211.1620 | Cryogenic Flexible Primer | 3/4/2021 | 4/11/2023, [INSERT Federal Register CITATION] |
211.1625 | Cryoprotective Coating | 3/4/2021 | 4/11/2023, [INSERT Federal Register CITATION] |
* * * * * * *
211.1735 | Department of Defense Classified Coating | 3/4/2021 | 4/11/2023, [INSERT Federal Register CITATION] |
* * * * * * *
211.1820 | Dry Lubricative Material for Aerospace Applications | 3/4/2021 | 4/11/2023, [INSERT Federal Register CITATION] |
* * * * * * *
211.1895 | Electrostatic Discharge and Electromagnetic Interference Coating | 3/4/2021 | 4/11/2023, [INSERT Federal Register CITATION] |
* * * * * * *
211.1915 | Elevated-Temperature Skydrol-Resistant Commercial Primer | 3/4/2021 | 4/11/2023, [INSERT Federal Register CITATION] |
* * * * * * *
211.2035 | Epoxy Polyamide Topcoat | 3/4/2021 | 4/11/2023, [INSERT Federal Register CITATION] |
* * * * * * *
211.2180 | Exterior Primer for Large Commercial Aircraft | 3/4/2021 | 4/11/2023, [INSERT Federal Register CITATION] |
* * * * * * *
211.2340 | Fire-Resistant Interior Coating | 3/4/2021 | 4/11/2023, [INSERT Federal Register CITATION] |
* * * * * * *
211.2400 | Flight Test Coating | 3/4/2021 | 4/11/2023, [INSERT Federal Register CITATION] |
* * * * * * *
211.2412 | Flush Cleaning at Aerospace Facilities | 3/4/2021 | 4/11/2023, [INSERT Federal Register CITATION] |
* * * * * * *
211.2480 | Fuel Tank Adhesive for Aerospace Applications | 3/4/2021 | 4/11/2023, [INSERT Federal Register CITATION] |
211.2485 | Fuel Tank Coating for Aerospace Applications | 3/4/2021 | 4/11/2023, [INSERT Federal Register CITATION] |
* * * * * * *
211.2612 | General Aviation | 3/4/2021 | 4/11/2023, [INSERT Federal Register CITATION] |
211.2613 | General Aviation Rework Facility | 3/4/2021 | 4/11/2023, [INSERT Federal Register CITATION] |
* * * * * * *
211.2795 | Hand-Wipe Cleaning Operation at Aerospace Facilities | 3/4/2021 | 4/11/2023, [INSERT Federal Register CITATION] |
* * * * * * *
211.2980 | High Temperature Coating | 3/4/2021 | 4/11/2023, [INSERT Federal Register CITATION] |
* * * * * * *
211.3160 | Insulation Covering | 3/4/2021 | 4/11/2023, [INSERT Federal Register CITATION] |
* * * * * * *
211.3180 | Intermediate Release Coating | 3/4/2021 | 4/11/2023, [INSERT Federal Register CITATION] |
* * * * * * *
211.3230 | Lacquers | 3/4/2021 | 4/11/2023, [INSERT Federal Register CITATION] |
* * * * * * *
211.3360 | Limited Access Space | 3/4/2021 | 4/11/2023, [INSERT Federal Register CITATION] |
* * * * * * *
211.3755 | Metalized Epoxy Coating | 3/4/2021 | 4/11/2023, [INSERT Federal Register CITATION] |
* * * * * * *
211.3850 | Miscellaneous Metal Parts and Products Coating | 3/4/2021 | 4/11/2023, [INSERT Federal Register CITATION] |
211.3870 | Miscellaneous Metal Parts or Products Coating Line | 3/4/2021 | 4/11/2023, [INSERT Federal Register CITATION] |
* * * * * * *
211.3920 | Mold Release Coating for Aerospace Applications | 3/4/2021 | 4/11/2023, [INSERT Federal Register CITATION] |
* * * * * * *
211.4066 | Nonstructural Adhesive | 3/4/2021 | 4/11/2023, [INSERT Federal Register CITATION] |
* * * * * * *
211.4215 | Optical Antireflection Coating | 3/4/2021 | 4/11/2023, [INSERT Federal Register CITATION] |
* * * * * * *
211.4535 | Part Marking Aerospace Coating | 3/4/2021 | 4/11/2023, [INSERT Federal Register CITATION] |
* * * * * * *
211.5072 | Primer for General Aviation Rework Facility | 3/4/2021 | 4/11/2023, [INSERT Federal Register CITATION] |
* * * * * * *
211.5336 | Radiation-Effect or Electric Coating | 3/4/2021 | 4/11/2023, [INSERT Federal Register CITATION] |
211.5338 | Radome | 3/4/2021 | 4/11/2023, [INSERT Federal Register CITATION] |
211.5339 | Rain Erosion-Resistant Coating | 3/4/2021 | 4/11/2023, [INSERT Federal Register CITATION] |
* * * * * * *
211.5585 | Research and Development Operation | 3/4/2021 | 4/11/2023, [INSERT Federal Register CITATION] |
* * * * * * *
211.5675 | Rocket Motor Bonding Adhesive | 3/4/2021 | 4/11/2023, [INSERT Federal Register CITATION] |
211.5680 | Rocket Motor Nozzle Coating | 3/4/2021 | 4/11/2023, [INSERT Federal Register CITATION] |
* * * * * * *
211.5805 | Rubber-Based Adhesive | 3/4/2021 | 4/11/2023, [INSERT Federal Register CITATION] |
* * * * * * *
211.5855 | Scale Inhibitor | 3/4/2021 | 4/11/2023, [INSERT Federal Register CITATION] |
* * * * * * *
211.5883 | Screen Print Ink for Aerospace Applications | 3/4/2021 | 4/11/2023, [INSERT Federal Register CITATION] |
* * * * * * *
211.5887 | Sealant for Aerospace Applications | 3/4/2021 | 4/11/2023, [INSERT Federal Register CITATION] |
* * * * * * *
211.5895 | Seal Coat Maskant | 3/4/2021 | 4/11/2023, [INSERT Federal Register CITATION] |
211.5900 | Self-Priming Topcoat for Aerospace Applications | 3/4/2021 | 4/11/2023, [INSERT Federal Register CITATION] |
211.5905 | Self-Priming Topcoat for General Aviation Rework Facility | 3/4/2021 | 4/11/2023, [INSERT Federal Register CITATION] |
211.5907 | Semi-Aqueous Cleaning Solvent | 3/4/2021 | 4/11/2023, [INSERT Federal Register CITATION] |
* * * * * * *
211.6013 | Silicone Insulation Material | 3/4/2021 | 4/11/2023, [INSERT Federal Register CITATION] |
* * * * * * *
211.6055 | Smoothing and Caulking Compounds | 3/4/2021 | 4/11/2023, [INSERT Federal Register CITATION] |
* * * * * * *
211.6064 | Solid Film Lubricant | 3/4/2021 | 4/11/2023, [INSERT Federal Register CITATION] |
* * * * * * *
211.6133 | Space Vehicle | 3/4/2021 | 4/11/2023, [INSERT Federal Register CITATION] |
211.6137 | Specialized Function Coating | 3/4/2021 | 4/11/2023, [INSERT Federal Register CITATION] |
* * * * * * *
211.6426 | Structural Autoclavable Adhesive for Aerospace Applications | 3/4/2021 | 4/11/2023, [INSERT Federal Register CITATION] |
* * * * * * *
211.6428 | Structural Nonautoclavable Adhesive for Aerospace Applications | 3/4/2021 | 4/11/2023, [INSERT Federal Register CITATION] |
* * * * * * *
211.6575 | Temporary Protective Coating for Aerospace Applications | 3/4/2021 | 4/11/2023, [INSERT Federal Register CITATION] |
* * * * * * *
211.6583 | Thermal Control Coating for Aerospace Applications | 3/4/2021 | 4/11/2023, [INSERT Federal Register CITATION] |
* * * * * * *
211.6670 | Topcoat | 3/4/2021 | 4/11/2023, [INSERT Federal Register CITATION] |
211.6685 | Topcoat for General Aviation Rework Facility | 3/4/2021 | 4/11/2023, [INSERT Federal Register CITATION] |
* * * * * * *
211.6720 | Touch-Up Coating | 3/4/2021 | 4/11/2023, [INSERT Federal Register CITATION] |
* * * * * * *
211.7260 | Wet Fastener Installation Coating | 3/4/2021 | 4/11/2023, [INSERT Federal Register CITATION] |
* * * * * * *
211.7275 | Wing Coating | 3/4/2021 | 4/11/2023, [INSERT Federal Register CITATION] |
* * * * * * *
219.105 | Test Methods and Procedures | 3/4/2021 | 4/11/2023, [INSERT Federal Register CITATION] |
219.106 | Compliance Dates | 3/4/2021 | 4/11/2023, [INSERT Federal Register CITATION] |
* * * * * * *
219.110 | Vapor Pressure of Organic Material or Solvent | 3/4/2021 | 4/11/2023, [INSERT Federal Register CITATION] |
* * * * * * *
219.112 | Incorporation by Reference | 3/4/2021 | 4/11/2023, [INSERT Federal Register CITATION] |
* * * * * * *
219.187 | Other Industrial Cleaning Operations | 3/4/2021 | 4/11/2023, [INSERT Federal Register CITATION] |
* * * * * * *
219.204 | Emission Limitations | 3/4/2021 | 4/11/2023, [INSERT Federal Register CITATION] |
219.205 | Daily-Weighted Average Limitations | 3/4/2021 | 4/11/2023, [INSERT Federal Register CITATION] |
* * * * * * *
219.207 | Alternative Emission Limitations | 3/4/2021 | 4/11/2023, [INSERT Federal Register CITATION] |
219.208 | Exemptions from Emission Limitations | 3/4/2021 | 4/11/2023, [INSERT Federal Register CITATION] |
* * * * * * *
219.211 | Recordkeeping and Reporting | 3/4/2021 | 4/11/2023, [INSERT Federal Register CITATION] |
* * * * * * *
219.219 | Work Practice Standards for Aerospace Facilities | 3/4/2021 | 4/11/2023, [INSERT Federal Register CITATION] |
* * * * * * *

* * * * *

[FR Doc. 2023-07334 Filed 4-10-23; 8:45 am]

BILLING CODE 6560-50-P